DEPARTMENT OF ENERGY

Federal Energy Regulatory Commission

Notice of Application for Amendment of License and Soliciting Comments, Motions To Intervene, and Protests

April 5, 2007.

Take notice that the following hydroelectric application has been filed with the Commission and is available for public inspection:

a. Application Type: Amendment of license for a change in water surface elevation limits for the upper reservoir.

b. Project No.: 2485-041.

c. Date Filed: March 13, 2007.

d. Applicant: First Light Hydro Generating Company.

e. Name of Project: Northfield Mountain Pumped Storage.

f. Location: The project is located on the east side of the Connecticut River, in the towns of Northfield and Erving, in Franklin County, Massachusetts. The project does not utilize federal or tribal lands.

g. Filed Pursuant to: Federal Power Act, 16 U.S.C. 791a-825r.

h. Applicant Contact: Mr. John Campbell, Senior Vice President, First Light Power Resources Services LLC, 301 Hammer Mill Road, Rocky Hill, Connecticut 06067, (860) 810-1711 with copies of all correspondence and communications to:

Mr. John Howard, Station Manager, Northfield Mountain Station, 99 Millers Falls Road, Northfield, Massachusetts 01360, (413) 659-4489; and

James B. Vasile, Davis Wright Termaine LLP, 1500 K Street, NW., Suite 450, Washington, DC 20005-1272. (202) 508-6662.

i. FERC Contact: Any questions on this notice should be addressed to Vedula Sarma at (202) 502-6190 or vedula.sarma@ferc.gov.

j. Deadline for filing comments and/or motions: May 4, 2007.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: First Light Hydro Generating Company (FLHGC) seeks authorization to change the upper reservoir normal maximum and minimum water surface elevations from 1,000.5 and 938 feet to 1,004.5 and 947 feet, respectively, for its currently normal daily generation of approximately 8,475 megawatt hours (MWh). FLHGC said it needs the elevation change in order to establish an emergency storage band at the upper reservoir between 920 feet and 938 feet to allow for additional generation of 1,990 MWh when ISO-NE is operating under emergency conditions.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Philis J. Posey,
Acting Secretary.

[FR Doc. E7-6797 Filed 4-10-07; 8:45 am]

BILLING CODE 6717-01-P